DEPARTMENT OF COMMERCE

National Oceanic and Atmospheric Administration

50 CFR Part 679

[Docket No. 010112013-1168-06; I.D. 011101B]

RIN 0648-A082

Fisheries of the Exclusive Economic Zone Off Alaska; Steller Sea Lion Protection Measures and 2001 Harvest Specifications and Associated Management Measures for the Groundfish Fisheries Off Alaska

AGENCY: National Marine Fisheries Service (NMFS), National Oceanic and Atmospheric Administration (NOAA), Commerce.

ACTION: Emergency interim rule; extension and request for comments.

SUMMARY: NMFS amends and corrects the emergency interim rule that implements the 2001 Steller sea lion protection measures and the 2001 harvest specifications and extends its effectiveness through December 31, 2001. These amendments include adjustments to open and closed areas and seasons for important prey species, exemptions for various gear sectors for socio-economic and safety purposes, the establishment of a pollock research area in the Chiniak Gully, and various amendments to the harvest specifications to implement the North Pacific Fishery Management Council's (Council) recommendations. This action is necessary to implement Steller sea lion protection measures for the remainder of 2001 as recommended by the Council and is intended to manage the groundfish fishery in a manner that is consistent with requirements of the Magnuson-Stevens Fishery Conservation and Management Act (Magnuson-Stevens Act), and to provide adequate protection to Steller sea lions and their critical habitat, as required by the Endangered Species Act and section 209 of the Consolidated Appropriations Act of 2001.

DATES: In the final rule published January 22, 2001 at 66 FR 7276 (corrected March 20, 2001 (66 FR 15656) and July 2, 2001 (66 FR 34852)), and amended March 29, 2001 (66 FR 17083 and 17087) and June 13, 2001 (66 FR 31845), certain amendments were made effective January 18, 2001 through July 17, 2001, and others were made effective June 10, 2001, through July 17, 2001. This rule extends the effective date for those amendments through December 31, 2001, except for: 50 CFR 679.20(a)(5)(i)(B)(2) and (c)(7); § 679.22(a)(11), (a)(12)(i), (a)(12)(ii), (a)(12)(iii)(A), (a)(12)(iv), (a)(12)(v), (a)(13), (b)(3) and (b)(5); § 679.23(d)(4); and Table 21 of 50 CFR part 679, which expire July 17, 2001. The amendments to 50 CFR 679.20, 679.22, 679.23, 679.31, and to Tables 21 through 24 to part 679, in this final rule are effective July 18, 2001 through December 31, 2001. Comments must be received by August 15, 2001.

ADDRESSES: Comments may be sent to Sue Salveson, Assistant Regional Administrator, Sustainable Fisheries Division, Alaska Region, NMFS, P.O. Box 21668, Juneau, AK 99802, Attn: Lori Gravel, or delivered to room 401 of the Federal Building, 709 West 9th Street, Juneau, AK. Comments will not be accepted if submitted via e-mail or Internet.

Copies of the November 30, 2000, Biological Opinion and Incidental Take Statement on Authorization of the Bering Sea and Aleutian Islands (BSAI) groundfish fisheries based on the Fishery Management Plan for the Groundfish Fishery of the BSAI and Authorization of the Gulf of Alaska (GOA) groundfish fisheries based on the Fishery Management Plan for Groundfish of the Gulf of Alaska (Comprehensive Biological Opinion), including the Reasonable and Prudent Alternative (RPA), may be obtained from the same address. The Comprehensive Biological Opinion is also available on the NMFS Alaska Region home page at http://www.fakr.noaa.gov.

Copies of the Environmental Assessment/Regulatory Impact Review (EA/RIR) for the Extension and Revision of the Emergency Interim Rule for 2001 Harvest Specifications for the Alaska Groundfish Fisheries and for Steller Sea Lion Protective Fisheries Management Measures may be obtained from the same address. The EA/RIR is also available on the NMFS Alaska Region home page at http://www.fakr.noaa.gov.

FOR FURTHER INFORMATION CONTACT: Melanie Brown, NMFS, 907-586-7228 or e-mail at melanie.brown@noaa.gov.

SUPPLEMENTARY INFORMATION: NMFS manages the groundfish fisheries in the exclusive economic zone off Alaska under the Fishery Management Plan for the Groundfish Fishery of the Bering Sea and Aleutian Islands Area and the Fishery Management Plan for Groundfish of the Gulf of Alaska (FMPs). The Council prepared the FMPs under the authority of the Magnuson-Stevens Act, 16 U.S.C. 1801, et seq. Regulations governing U.S. fisheries and implementing the FMPs appear at 50 CFR parts 600 and 679. NMFS also has management responsibility for certain threatened and endangered species, including Steller sea lions, under the Endangered Species Act (ESA), 16 U.S.C. 1531, et seq., and the authority to promulgate regulations to enforce provisions of the ESA to protect such species.

Introduction

This preamble consists of two parts. Part I explains the process followed for developing and the basis for the amendments to the Steller sea lion protection measures. Part II contains amendments to several harvest specifications for groundfish harvest for the second half of 2001.

Part I. Steller Sea Lion Protection Measures

Background

On January 22, 2001, NMFS published an emergency interim rule, effective January 18, 2001, that established 2001 harvest specifications for the BSAI and GOA groundfish fisheries and implemented 2001 Steller sea lion protection measures for these fisheries (66 FR 7276). These protection measures initiated a 1-year phase-in of the RPA developed in the Comprehensive Biological Opinion (See Addresses) as directed under section 209 of Public Law 106-554. NMFS determined that the 2001 protection measures provided a sufficient degree of protection to endangered Steller sea lions for 2001 and were consistent with the RPA, the ESA, and with section 209 of Public Law 106-554. Public Law 106-554, which was signed by the President on December 21, 2000, provides for independent scientific review and additional public and Council assessment of the Comprehensive Biological Opinion and the RPA prior to full implementation of the RPA in 2002.

The January 18, 2001, emergency interim rule extended the Steller sea lion protection measures that were in place during 2000 for the BSAI and GOA pollock fisheries, with several changes. These changes included two fishing seasons for GOA Pacific cod and for non-Community Development Quota (CDQ) Pacific cod in the BSAI. A complete description and justification of the 2001 Steller sea lion protection measures can be found in the preamble to the January 18, 2001, emergency interim rule (66 FR 7276). A 30-day public comment period on the emergency interim rule ended February 21, 2001. One letter of comment was received during this period and is summarized and responded to under Response to Comments, below.

On March 20, 2001, NMFS issued a correction to the January 18, 2001, emergency interim rule that addressed various technical and editorial errors (66 FR 15656). Effective March 23, 2001, NMFS amended the emergency interim rule to change fishing restrictions on vessels fishing for groundfish off Alaska with jig gear and on vessels less than 60 ft (18.3 m) length overall (LOA) fishing for BSAI Pacific cod with hook-and-line or pot gear (66 FR 17083, March 29, 2001). A 30-day public comment period on the amendment ended April 23, 2001. One letter of comment was received and also is summarized and responded to under Response to Comments. Also effective March 23, 2001, NMFS also amended the emergency interim rule to adjust the seasonal apportionment of Pacific halibut bycatch limits for the trawl and hook-and-line groundfish fisheries of the GOA (66 FR 17087, March 29, 2001). Effective June 10, 2001, NMFS amended the rule to prohibit directed fishing for Pacific cod in the Western and Central GOA and by vessels equal to or greater than 60 ft (18.3 m) LOA using pot or hook-and-line gear in the BSAI (66 FR 31845, June 13, 2001). A 30-day public comment period on this amendment ended July 9, 2001. No written comments were received during the comment period. To reserve halibut PSC bycatch amounts to support the delayed Pacific cod season in the GOA, NMFS amended the emergency interim rule to prohibit shallow water trawl fisheries effective on June 27, 2001 (66 FR 34852, July 2, 2001).

The RPA measures were independently reviewed by a committee (RPA Committee) established by the Council. This RPA Committee developed recommendations for Steller sea lion protection measures for the second half of the 2001 groundfish fisheries. These recommendations were approved by the Council in April 2001 and forwarded to NMFS. By this action today, NMFS implements those recommendations.

Specific Elements of the Steller Sea Lion Protection Measures Revisions

Amendments to the emergency interim rule include: (1) Adjustments to the open and closed pollock, Atka mackerel, and Pacific cod directed fishing areas in Steller sea lion critical habitat; (2) adjustments to specific Pacific cod fishing seasons; (3) exemptions for various Pacific cod non-trawl gear vessels from several fishing closure areas; (4) establishment of the Chiniak Gully pollock research program; and (5) elimination of the pollock harvest limit in the Steller sea lion conservation area in the Bering Sea.

Adjustments to Atka Mackerel, Pollock, and Pacific Cod Directed Fishing Area Closures

The RPA Committee recommended directed fishing closures that are consistent with the criteria established under the Comprehensive Biological Opinion for minimum levels of protection. The criteria for protection in the Comprehensive Biological Opinion require protection of more than 50 percent of critical habitat, more than 50 percent of the areas used by non-pups and more than 75 percent of the area where pups are born. The recommended closures by the RPA Committee protect 57 percent of critical habitat and 80 percent of the areas for pups birthing and non-pups use. The RPA Committee recommended closures to directed fishing of 10 nautical miles (nm) in the trawl fisheries for pollock, Pacific cod, and Atka mackerel. This was different than the level of protection provided by the RPA in the Comprehensive Biological Opinion, under which many rookery and haulout sites were closed to all directed fishing for pollock, Pacific cod, and Atka mackerel out to 20 nm. The reason for the difference in protected areas is based on the results of analyses of recent telemetry data and the importance of certain areas to commercial fishing. Previous data indicated that maximum foraging distances from the point of tagging ranged between 20 to 60 nm. While this still remains valid for some individuals, the more recent telemetry data show that Steller sea lions spend a significant amount of their time at sea within 10 nm of the shoreline. Tagged animals ranged in a line that was parallel to and within 10 nm of the shoreline. Therefore, even though the telemetry data indicated that an animal may travel a great distance during a foraging trip, most of that movement is parallel to the shoreline and not perpendicular to it.

The RPA Committee recommended that the 3 nm no-entry zones established around selected rookeries under the authority of the ESA remain in effect. The RPA Committee also recommended that major rookeries and haulouts be closed to directed fishing for pollock, Pacific cod, and Atka mackerel out to 10 nm in all three fishery areas—the Gulf of Alaska, the Aleutian Islands, and the Eastern Bering Sea—and that rookeries that had experienced an annual decline in Steller sea lion population of 10 percent or greater since 1991 be closed out to 20 nm. Exceptions were recommended in some areas for non-trawl gear.

Some allowance is provided for fishing outside of 3 nm, but within 10 nm by pot and hook-and-line vessels equal to or greater than 60 ft (18.3 m) LOA, given the slower rate of harvest by these vessels, the limited amount of groundfish harvested by these vessels during the remainder of 2001, and commensurate reduction of concerns about competition with Steller sea lions during this time period. Based on this information, NMFS believes that the protection of rookeries and haulouts out to 10 nm adequately protects a significant portion of the Steller sea lion population.

Adjustments to the Pacific Cod Fishing Seasons

The January 18, 2001, emergency interim rule established two fishing seasons for the BSAI and GOA Pacific cod fisheries, January 1 to June 10 (with 60 percent of the TAC available for harvest) and June 10 to December 31 (with 40 percent of the TAC available for harvest), except that directed fishing for Pacific cod with trawl gear was prohibited after November 1, 2001. The emergency interim rule effective March 23, 2001, removed the season restrictions for the BSAI jig gear fisheries and BSAI vessels less than 60 ft (18.3 m) LOA using pot or hook-and-line gear. Separate allocations of the BSAI Pacific cod TAC for these two groups of vessels at § 679.20(a)(7)(i)(C) facilitated separate seasonal fishing restrictions. Justification for this relief of seasonal harvest constraints was discussed in the preamble to the emergency interim rule (66 FR 17083, March 29, 2001).

In April, the Council recommended delaying the June 10 opening date of the GOA Pacific cod fishery and the BSAI Pacific cod fishery by vessels greater than 60 ft (18.3 m) LOA using pot or hook-and-line gear. The Council's recommendation was based on the following management considerations: Poor product recovery and quality in summer months; competition with summer salmon fisheries for processing facilities; potential gear conflicts between pot and trawl gear fleets; and coordination between BSAI Pacific cod fisheries within the CDQ and non-CDQ sectors. The Council's recommended season delays also would address salmon and Pacific halibut bycatch concerns and are intended to manage the Pacific cod fisheries in a manner consistent with the objectives of 2001 Steller sea lion protection measures to avoid localized depletion of Pacific cod.

Specifically, the Council recommended, and NMFS approves, except for the Eastern GOA, the second season opening date for the Gulf of Alaska Pacific cod fisheries be delayed from June 10 to September 1. In the preamble to the emergency interim rule amendment effective June 10, 2001 (66 FR 31845, June 13, 2001), all of the GOA was intended to be closed to directed fishing for Pacific cod until the emergency interim rule extension took place in July. Due to a technical error, the regulatory text closed only the Western and Central areas of the GOA. As of June 28, 2001, only 3 percent of the annual TAC for the Eastern GOA has been harvested. Five Steller sea lion sites are located in the Eastern GOA. By this action today, each of these sites is protected by a 20 nm no Pacific cod fishing zone. Because the Eastern GOA area is not likely to harvest much of the TAC apportioned and because Steller sea lion sites within the Eastern GOA are now protected by 20 nm no Pacific cod fishing zones, NMFS has determined that the season delay is necessary only for the Western and Central GOA. Except for an allocation between inshore and offshore sectors under § 679.20(a)(6)(iii), the GOA Pacific cod TAC is not allocated among different gear sectors. Therefore, separate treatment of vessels using jig, pot, hook-and-line, or trawl gear is not feasible and the season delay affects vessels using any gear type.

Also, the Council recommended a delay of the second season opening date of the BSAI hook-and-line vessels equal to or greater than 60 ft (18.3 m) LOA in the fisheries for Pacific cod from June 10 until August 15. In taking this action, the Council recognized that NMFS already has implemented the 2001 seasonal apportionment of the non-trawl Pacific halibut bycatch limit in a manner that currently delays the BSAI hook-and-line Pacific cod fisheries to August 1. The additional delay from August 1 to August 15 was adopted by the Council to maintain temporal distribution of the fishery consistent with the objectives of existing Steller sea lion protection measures and to minimize high halibut bycatch rates during summer months. The delay also reduces the potential for interaction of the hook-and-line gear fisheries with the endangered short-tailed albatross and other seabird species during summer months.

The Council recommended a June 10 to September 1 delay in the second season opening date for the BSAI Pacific cod pot gear fishery by vessels equal to or greater than 60 ft (18.3 m) LOA. This action was taken because the amount of BSAI Pacific cod that remains to be harvested by these vessels in the second season represents less than 2 percent of the BSAI Pacific cod TAC. The Council also recognized that harvest removals by this gear type are slow paced and are unlikely to affect Steller sea lions in a manner not already considered by NMFS.

The Pacific cod seasons recommended by the Council and approved by NMFS impose no seasonal harvest constraints for vessels fishing in the BSAI using jig gear, for vessels less than 60 ft (18.3 m) LOA using pot or hook-and-line gear, or for vessels participating in the CDQ fisheries. The start dates for the second season in 2001 for Pacific cod sectors are summarized in the following table:

Pacific cod fishery sector* | Second season opening date of directed fishing for Pacific cod: June 10 | Second season opening date of directed fishing for Pacific cod: August 15 | Second season opening date of directed fishing for Pacific cod: September 1
Western and Central Gulf of Alaska:
All gear types |  |  | X
Bering Sea and Aleutian Islands:
All trawl | X |  |
Bering Sea and Aleutian Islands:
Pot vessels ≥ 60 ft LOA |  |  | X
Bering Sea and Aleutian Islands:
Vessels ≥ 60 ft LOA using hook-and-line gear |  | X |
* Seasonal harvest constraints are not established for BSAI vessels using jig gear, BSAI vessels less than 60 feet LOA using pot or hook-and-line gear, or for vessels participating in the CDQ fisheries.

The June 10 second season opening date for BSAI Pacific cod harvested by trawl vessels remained unchanged to maintain overall spatial and temporal distribution of the BSAI Pacific cod fisheries. Potential bycatch concerns ensuing from a summer trawl effort for Pacific cod was assumed by the Council to be self limiting due to low summer catch rates and the fleets' avoidance of high Pacific halibut bycatch rates that could preempt more lucrative fall fishing. Salmon bycatch in the non-pollock trawl fisheries typically has not posed a concern given that summer trawl fisheries are limited due to halibut bycatch concerns and restrictions. These fisheries also tend to operate on fishing grounds that avoid high bycatch rates of salmon.

Pacific cod fishing prohibitions were effective by June 10, 2001, to meet the intent of the Council for adjustments to the second season start dates and to avoid industry confusion and a race for the available Pacific cod TAC. NMFS prohibited fishing for Pacific cod by specified vessels consistent with the Council's recommendation by an amendment to the January 18, 2001, emergency interim rule published on June 13, 2001 (66 FR 31845). The closures resulting from the fishing prohibitions are in effect until the new season dates established by this amendment to the emergency interim rule take effect.

Exemptions for Selected Non-trawl Gear Pacific Cod Vessels From Steller Sea Lion Protective Measures Fishing Closures

The Council recommended exemptions for selected non-trawl gear vessels fisheries closures in the GOA designed to protect Steller sea lions. These exemptions are in addition to those already implemented by NMFS. On March 23, 2001, NMFS amended the emergency interim rule to relieve fishing restrictions on vessels fishing for groundfish off Alaska with jig gear and on vessels less than 60 ft (18.3 m) LOA fishing for BSAI groundfish with hook-and-line or pot gear (66 FR 17083, March 29, 2001). Vessels under the March 23, 2001, exemption are permitted to fish to the shore around haulouts and beyond 3 nm around rookeries in areas closed to groundfish, pollock, Atka mackerel, and Pacific cod fishing. The Council's recommendation expands the areas opened and the types of vessels exempted. Areas specified in the Council's recommendation are identified by specific locations in Tables 21, 22, and 23 of 50 CFR part 679 and in § 679.22. Exemptions include:

1. In Area 8 of the Bering Sea, all pot vessels may operate within 3 nm to 10 nm or 20 nm Pacific cod fishing closures around rookeries and haulouts.

2. In Areas 5 and 6 of the GOA, non-trawl gear vessels less than 60 ft (18.3 m) LOA may operate Pacific cod and pollock fisheries within 3 nm to 10 nm around haulouts and rookeries.

3. In Area 2 of the GOA, non-trawl gear vessels less than 60 ft (18.3 m) LOA may operate Pacific cod and pollock fisheries within 3 nm to 20 nm around haulouts.

Based on the continuation of 3 nm no groundfish fishing zones under the exemption specified above, these exemptions will not locally deplete important prey species and thus will not detrimentally impact Steller sea lions.

The Chiniak Gully Pollock Research Program

The Council endorsed a research project proposed by NMFS in the Chiniak Gully off Kodiak Island to determine the effect of pollock fisheries on short term changes in the pollock school dynamics, and if the pollock fisheries cause localized depletion of Steller sea lion prey off the east side of Kodiak Island. The experiment will include the closure of Chiniak Gully to trawl fishing from August 1 to no later than September 20. The 20 nm Pacific cod and pollock fishing closure in the Chiniak Gully area around Cape Chiniak and Long Island haulouts will be reduced to 10 nm closures from October 1 through December 31. A more detailed description of the experiment is provided in the draft environmental assessment/regulatory impact review/final regulatory flexibility analysis for the proposed rule to implement a seasonal closure of a portion of the Central Regulatory Area, GOA, to vessels using trawl gear (65 FR 41044, July 3, 2000). For copies of these documents, please contact NMFS (see ADDRESSES). Amendments are made to the emergency interim rule (66 FR 7276) to implement this experiment including trawl closures necessary to conduct the experiment.

Elimination of the Steller Sea Lion Conservation Area (SCA) Pollock Harvest Limit

The Council recommended the elimination of the pollock harvest limit for the SCA for the second half of 2001. The January 18, 2001, emergency interim rule established a harvest limit for pollock in the SCA based upon the level of harvest established for the 2000 fishing season. This was done to ensure adequate prey resources were available for Steller sea lions. Additional information may be found in the January 18, 2001, emergency interim rule (66 FR 7276, January 22, 2001). The Council based its recommendations on the following:

1. Steller sea lion population growth. Non-pup counts of Steller sea lions in the areas of the Bering Sea where the pollock and Pacific cod fisheries occur have experienced the least decline or increase. Steller sea lion abundance near Unimak Island and to the east, including the rookery on Amak Island, are increasing at a 3-percent annual rate. Steller sea lion abundance on rookeries near Dutch Harbor are increasing at a 7-percent annual rate, the fastest increase of any group within the western population. However, NMFS notes that when looking at the eastern Aleutian Islands subpopulation of Steller sea lions, which includes animals from the Dutch Harbor area, Unimak Island, Amak Island, and waters on the south side of the Aleutian Island from these areas, the overall trend is a population decline of 1.75 percent.

2. Steller sea lion diet. Recent scat analysis indicates that sea lion diet may be more variable in the summer and early fall than previously thought. Primary prey for sea lions on Amak Island is highly varied and dependent on spawning aggregations. The top three species appearing in scat samples in the summer were herring, pollock, and sand lance. Scats collected from Amak Island were found to include a dozen fish species that occurred in more than 10 percent of the scats. For the rookeries and haulouts from Unimak and west to Dutch Harbor, the top summer prey were salmon, pollock, herring, and some Atka mackerel. Although pollock is one of the primary prey species from Unimak west to Dutch Harbor, the sea lions in these areas eat many different species, particularly in the summer. The frequency of occurrence of Pacific cod in Steller sea lion scat is less in the summer than in the winter, approximately 28 percent in the winter and 7 percent in the summer.

3. Steller sea lion foraging distance. Telemetry data indicate that the great majority of at-sea locations for the lactating females, juveniles, and pups that were tagged were very close to shore, with 60-to-75 percent occurrences within 2 miles of the shore and 85-to-92 percent occurrences within 10 miles of the shore. Although the data cannot specify whether the animals were foraging, the extremely high percentage of “hits” so close to shore must include most foraging trips.

4. Summer/fall Pacific cod fishery. The Pacific cod fishery by all gear groups is significantly dispersed in the summer and fall because of the dispersion of the Pacific cod. During the period 1995 through 1999, when no critical habitat restrictions on Pacific cod were in place, hook-and-line catch of Pacific cod occurred in significant amounts northwest of the Pribilof Islands and north of the SCA. Pacific cod fishing by trawl gear occurred both inside and outside the SCA, but the summer trawl fishery is small because of the low catch per unit of effort.

5. Catcher Vessel Operational Area (CVOA) exclusion. Current closure regulations prohibit pollock fishing during the “B season” inside the CVOA by the catcher/processor offshore component, which has 40 percent of the pollock TAC. Section 679.22(a)(5) of 50 CFR is amended with this action to ensure continued closure in the CVOA to pollock catcher processor vessels during the C/D season, June 10 through November 1. This closure reduces the amount of fishing effort in a large portion of the SCA.

6. Reduction of the inshore pollock trawl fleet. The American Fisheries Act (AFA) authorized the Bering Sea pollock trawlers to organize into cooperatives. This allowed the sector to decapitalize, which resulted in a 24-percent reduction in the number of boats in the inshore pollock fleet. Consequently, the amount of fishing effort on pollock at any one time has been reduced in the last 2 years.

7. Vessel safety. Although summer weather in the Bering Sea is certainly less threatening than winter weather, smaller boats are at risk when they must travel far from land and far from processing facilities. The SCA boundaries and harvest limits would require vessels to travel more than 60 miles offshore and even further from their processing facilities to fully utilize available resources. The Magnuson-Stevens Act requires NMFS to consider safety in fishery management decisions (national standard 10).

8. Product quality and cost. Pollock quality varies considerably by location and an exclusion from the SCA often results in poor quality because of fishing location and long trips back to processing facilities. In addition, costs increase significantly, particularly with the current high cost of fuel. The Magnuson-Stevens Act requires that efficiency and cost minimization be goals in fisheries management (national standards 5 and 7).

9. Salmon bycatch. Concerns over poor chum salmon returns in Western Alaska have put serious pressure on the pollock trawl fleet to reduce chum salmon bycatch. For the 2001 season, the AFA cooperatives have established a salmon savings plan to address salmon bycatch. If pollock trawling is largely excluded from the SCA, salmon bycatch will be higher than if the fleet has more flexibility to move away from bycatch hotspots. The Magnuson-Stevens Act requires fishery management measures to minimize or avoid bycatch (national standard 9).

10. Limited period of applicability. The second half of a year is not considered as critical to Steller sea lions as the first half of the year. The Council's recommendations are for the second half of 2001 only.

11. Availability of new information. Extended foraging areas were originally established in 1993 based on the platform of opportunity data (POP data), on the theory that indirect competition could exist with the fisheries. Yet, with Steller sea lion populations currently at a low level, and pollock populations at a near record high, 8 to 15 times more pollock are available per Steller sea lion today than in 1993. Further, new telemetry information suggests that sea lions spend very little time beyond 10 nm during this time of the year.

NMFS approves the elimination of the SCA limit for the second half of 2001 because the action is for a short duration, prey resources are likely to be available because of the increase in pollock biomass over 2000, and the telemetry data indicate that foraging may be occurring closer to shore than thought when the SCA was established so that a large foraging area may not be necessary for prey availability.

In summary, for the reasons set forth above, NMFS approves all the Council's recommendations and implements them by this action. It should be noted that (1) these measures are limited to the second half of 2001; (2) a large increase in 2001 pollock biomass has occurred without the equivalent large increase in total allowable catch (TAC) over 2000 levels, making prey more likely to be available to Steller sea lions; (3) the protection measures are in the process of being reassessed through NEPA and ESA analyses; and (4) the recommended protection measures met the Comprehensive Biological Opinion criteria for closure areas by meeting or exceeding minimum requirements for protection of critical habitat, protection of the non-pup population, and protection of areas where pups are born.

Part II. Specifications

This emergency interim rule extends the 2001 harvest specifications through December 31, 2001, including corrections and amendments made to the January 18, 2001, emergency interim rule (66 FR 7276, January 22, 2001; 66 FR 15656, March 20, 2001; 66 FR 17083, March 29, 2001; 66 FR 17087, March 29, 2001), recommendations made by the Council at its April 2001 meeting for pollock and Pacific cod season dates for the remainder of 2001, recommendations made by the Council at its June 2001 meeting for CDQ non-specified reserve allocations and halibut PSC seasonal allocations, and further corrects some errors found in the January 18, 2001, emergency interim rule specifications not previously corrected. A detailed discussion on the 2001 harvest specifications appears in the preamble to the January 18, 2001, emergency interim rule and in the preambles to the corrections and amendments to the January 18, 2001, emergency interim rule (66 FR 7276, January 22, 2001; 66 FR 15656, March 20, 2001; 66 FR 17083, March 29, 2001; 66 FR 17087, March 29, 2001; 66 FR 31845, June 13, 2001; and 66 FR 34852, July 2, 2001, halibut PSC reapportionment and shallow water trawl closure). The discussion in this preamble is limited to the amendments contained in this emergency interim rule.

The amendments included in this action are: (1) A technical correction for AFA sectoral allocations in the BSAI fisheries; (2) elimination of the SCA pollock harvest limits; (3) changes to Pacific cod seasons; (4) corrections to AFA inshore cooperative allocations; (5) corrections to the non-exempt AFA catcher vessel groundfish harvest specifications; (6) an increase in the contribution of arrowtooth flounder to the CDQ non-specific reserve; and (7) reallocation of GOA halibut PSC apportionment in the shallow water trawl fishery to account for the Pacific cod season changes. The following is a discussion of each amendment to the 2001 harvest specifications included in this emergency interim rule.

Bering Sea and Aleutian Islands

AFA Sectoral Allocations

Section 679.20(a)(5)(i)(C) contains the sectoral allocations for AFA vessels in the BSAI. This section expired January 16, 2001, and was inadvertently left out of the January 18, 2001, AFA emergency interim rule (66 FR 7327, January 22, 2001), and the January 18, 2001, 2001 harvest specifications and Steller sea lion protection measures emergency interim rule (66 FR 7276, January 22, 2001). This section is added to the regulations and appears in the regulatory text under the same section number. No changes were made to the language.

Elimination of SCA Harvest Limits

As explained in Part I of the preamble, in April 2001 the Council recommended that the SCA pollock harvest limits be eliminated for the C/D fishing season. Table 5 is amended and published to show the allocations of the pollock TAC for the C/D season without SCA harvest limits. Offshore components of catcher/processors continue to be prohibited from fishing in the CVOA within the SCA per § 679.22(a)(5), which is amended by this emergency interim rule.

Table 5.—Allocations of the Pollock TAC and Directed Fishing Allowance to the Inshore, Catcher/Processor, Mothership, and CDQ Components ¹
[All amounts are in metric tons]
Area and Sector | 2001 DFA | A/B Season ¹: A/B DFA | A/B Season ¹: A SCA limit ² | A/B Season ¹: B SCA limit ² | C/D Season ¹: C/D DFA
Bering Sea subarea | 1,400,000 | 560,000 | 166,751 | 55,497 | 840,000
CDQ | 140,000 | 56,000 | 28,247 | 9,339 | 84,000
ICA ³ | 50,400 |  |  |  |
AFA Inshore | 604,800 | 241,920 | 81,802 | 27,267 | 362,880
AFA C/Ps ⁴ | 483,840 | 193,536 | 38,564 | 12,854 | 290,304
Catch by C/Ps | 442,714 | 177,085 |  |  | 265,628
Catch by CVs ⁴ | 41,126 | 16,451 |  |  | 24,676
Restricted C/P cap ⁵ | 2,419 | 968 |  |  | 1,452
AFA Motherships | 120,960 | 48,384 | 14,607 | 4,869 | 72,576
Excessive shares cap ⁶ | 211,680 |  |  |  |
Aleutian Islands:
ICA ⁷ | 2,000
Bogoslof District:
ICA ⁷ | 1,000
¹ After subtraction for the CDQ reserve and the incidental catch allowance, the pollock TAC is allocated as follows: inshore component—50 percent, catcher/processor component—40 percent, and mothership component—10 percent. Under paragraph 206(a) of the AFA, the CDQ reserve for pollock is 10 percent. NMFS, under regulations at § 679.24(b)(4), prohibits nonpelagic trawl gear to engage in directed fishing for non-CDQ pollock in the BSAI. The A/B season, January 20-June 10, is allocated 40 percent and the C/D season, June 10-October 31 is allocated 60 percent.
² The SCA limits are established as the amount, in metric tons, authorized for the 2000 pollock fishery (65 FR 3896, January 25, 2000).
³ The pollock incidental catch allowance for the BS subarea is 4 percent of the TAC after subtraction of the CDQ reserve.
⁴ Subsection 210(c) of the AFA requires that not less than 8.5 percent of the directed fishing allowance allocated to listed catcher/processors (C/Ps) shall be available for harvest only by eligible catcher vessels (CVs) delivering to listed catcher/processors.
⁵ The AFA requires that vessels described in section 208(e)(21) be prohibited from exceeding a harvest amount of one-half of one percent of the directed fishing allowance allocated to vessels for processing by AFA catcher/processors.
⁶ Paragraph 210(e)(1) of the AFA specifies that “No particular individual, corporation, or other entity may harvest, through a fishery cooperative or otherwise, a total of more than 17.5 percent of the pollock available to be harvested in the directed pollock fishery.”
⁷ Consistent with the RPAs, the Aleutian Islands subarea and the Bogoslof District are closed to directed fishing for pollock. The amounts specified are for incidental catch amounts only, and are not apportioned by season or sector.

Under § 679.20(a)(5)(i)(C), NMFS must subdivide the inshore pollock allocation into allocations for cooperatives and vessels not fishing in a cooperative (i.e., the open access sector). Accordingly, Table 11 lists the apportionment of the BS subarea inshore pollock allocation into allocations for vessels fishing in a cooperative and for vessels not participating in a cooperative. Table 11, as published January 22, 2001, emergency interim rule was corrected by NMFS (66 FR 15656, March 20, 2001). The March amendment had an incorrect value of 3,192 mt for the A season inside the SCA open access sector. The correct value is 319 mt. Table 11 is amended and published here without the SCA limits for the C and D seasons and with the correct value for the open access A season inside the SCA.

Table 11.—Bering Sea Subarea Pollock Allocations to the Cooperative and Open Access Sectors of the Inshore Pollock Fishery
[Amounts are expressed in metric tons]
| A/B season TAC | A season inside SCA ¹ | B season inside SCA | C/D season TAC
Cooperative sector:
Vessels > 99 ft | n/a | 65,036 | n/a | n/a
Vessels ≤ 99 ft | n/a | 16,447 | n/a | n/a
Total | 241,184 | 81,483 | 27,161 | 361,772
Open access sector | 736 | 319 | 106 | 1,105
Total inshore | 241,920 | 81,802 | 27,267 | 362,880
¹ Steller sea lion conservation area established at § 679.22(a)(11)(iv) until July 18, 2001.
² Reserved.

Pacific Cod Seasons

Effective June 10, 2001, NMFS prohibited directed fishing for Pacific cod in the GOA and by vessels equal to or greater than 60 ft (18.3 m) LOA using hook-and-line or pot gear in the BSAI (66 FR 31845, June 13, 2001). This action was necessary to prohibit certain Pacific cod fisheries, which had been authorized to start on June 10, 2001, and was intended to provide for orderly implementation of Steller sea lion protection measures for the second half of 2001. The text of this emergency interim rule incorporates Council recommendations in the January 18 emergency interim rule preamble and republishes Table 7 for the opening date of the Pacific cod B season by vessels using trawl gear and non-trawl gear. Table 7 also lists the 2001 gear shares and seasonal apportionments of the BSAI Pacific cod TAC. Under § 679.23(e)(6)(ii)(B), directed fishing for Pacific cod in the B season in the BSAI by vessels using trawl gear closes 0001 hours, A.l.t., November 1, 2001. As recommended by the Council in April 2001 and as discussed in Part I of the preamble, the beginning dates for the B season for vessels equal to or greater than 60 ft (18.3 m) LOA using hook-and-line gear is August 15, 2001, and for vessels equal to or greater than 60 ft (18.3 m) LOA using pot gear is September 1, 2001.

Table 7.—2001 Gear Shares and Seasonal Apportionments of the BSAI Pacific Cod TAC
Gear sector | Percent | Share ¹ (mt) | Subtotal percentages for gear sectors | Share of gear-sector total (mt) | Seasonal apportionment ²: Date | Seasonal apportionment ²: Amount (mt)
Total hook-and-line and pot gear allocation of Pacific cod TAC | 51 | 88,689 |  |  |  |
Incidental Catch Allowance |  |  |  | 500 |  |
Processor and Vessel sub-Total |  |  |  | 88,189 |  |
Hook-and-line Catcher |  |  | 80 | 70,551 | Jan 1-Jun 10 | 42,331
Processors (≥ 60 ft LOA) |  |  | 80 | 70,551 | Aug 15-Dec 31 | 28,220
Hook-and-Line Catcher |  |  | 0.3 | 265 | Jan 1-Jun 10 | 159
Vessels (≥60 ft LOA) |  |  |  |  | Aug 15-Dec 31 | 106
Pot Gear Vessels |  |  | 18.3 | 16,139 | Jan 1-Jun 10 | 9,683
(≥60 ft LOA) |  |  |  |  | Sept 1-Dec 31 | 6,455
Catcher Vessels < 60 feet (18.3 m) LOA using Hook-and-line or Pot gear |  |  | 1.4 | 1,235 | no seasonal apportionment |
Trawl gear Total | 47 | 81,733 |  |  |  |
Trawl Catcher Vessel |  |  | 50 | 40,867 | Jan 1-Jun 10 | 24,520
|  |  |  |  | Jun 10-Nov 1 | 16,347
Trawl Catcher Processor |  |  | 50 | 40,867 | Jan 1-Jun 10 | 24,520
|  |  |  |  | Jun 10-Nov 1 | 16,347
Jig | 2 | 3,478 |  |  |  |
Total |  |  |  | 173,900 |  |
¹ The reserve has been released for Pacific cod see (Table 4).
² The first season is allocated 60 percent of the TAC and the second season is allocated 40 percent of the TAC. Any unused portion of the first seasonal Pacific cod allowance will be reapportioned to the second seasonal allowance.

The Council also recommended that the harvest by vessels less than 60 ft (18.3 m) LOA using pot gear be applied to the 18.3 percent harvest share of the vessels equal to or greater than 60 ft (18.3 m) LOA using pot gear only when directed fishing by vessels equal to or greater than 60 ft (18.3 m) LOA using pot gear is open. When Pacific cod directed fishing by vessels equal to or greater than 60 ft (18.3 m) LOA using pot gear is closed, the harvest by vessels less than 60 ft (18.3 m) LOA using pot gear will be applied to the 1.4 percent Pacific cod allocation for this vessel size. This recommendation is implemented by amending the regulatory text in § 679.20(a)(7)(i)(C)(4). This amendment will provide the larger pot vessels more opportunity to harvest the amount of Pacific cod allocated to them under the 2001 harvest specifications.

AFA Inshore Cooperative Allocations

Table 12 of the January 18, 2001, emergency interim rule preamble lists the pollock allocations to the seven inshore catcher vessel pollock cooperatives that have been approved and permitted by NMFS for the 2001 fishing year. These allocations are revised based on corrections to AFA vessels' catch history and Table 12 is amended and published as follows.

Table 12.—Bering Sea Subarea Inshore Cooperative Allocations
Cooperative name and member vessels | Sum of member vessel's official catch histories ¹ | Percentage of inshore sector allocation (%) | Annual co-op allocation
Akutan Catcher Vessel Association:
Aldebaran, Arcturus, Blue Fox, Cape Kiwanda, Columbia, Dominator, Dona Martita, Exodus, Gladiator, Golden Dawn, Golden Pisces, Hazel Lorraine, Intrepid Explorer, Leslie Lee, Lisa Melinda, Majesty, Marcy J, Margaret Lyn, Nordic Explorer, Northern Patriot, Northwest Explorer, Pacific Ram, Pacific Viking, Pegasus, Peggie Jo, Perseverance, Predator, Raven, Royal American, Seeker, Sovereignty, Traveler, Viking Explorer | 249,800 | 28.682 | 173,466
Arctic Enterprise Association:
Arctic Explorer, Bristol Explorer, Ocean Explorer, Pacific Explorer | 51,022 | 5.858 | 35,431
Northern Victor Fleet Cooperative:
Anita J, Nordic Fury, Pacific Fury, Goldrush, Excalibur II, Half Moon Bay, Sunset Bay, Commodore, Storm Petrel, Poseidon, Royal Atlantic, Miss Berdie | 72,517 | 8.326 | 50,358
Peter Pan Fleet Cooperative:
Amber Dawn, American Beauty, Elizabeth F, Morning Star, Oceanic, Ocean Leader, Topaz, Walter N, Providian | 15,347 | 1.762 | 10,657
Unalaska Cooperative:
Alaska Rose, Bering Rose, Destination, Great Pacific, Messiah, Morning Star, Ms Amy, Progress, Sea Wolf, Vanguard, Western Dawn | 106,737 | 12.255 | 74,121
UniSea Fleet Cooperative:
Alsea, American Eagle, Argosy, Auriga, Aurora, Defender, Gun-Mar, Nordic Star, Pacific Monarch, Seadawn, Starfish, Starlite, Starward | 212,608 | 24.411 | 147,640
Westward Fleet Cooperative:
A.J., Alaskan Command, Alyeska, Arctic Wind, Caitlin Ann, Chelsea K, Hickory Wind, Fierce Allegiance, Ocean Hope 3, Pacific Challenger, Pacific Knight, Pacific Prince, Viking, Westward I | 160,257 | 18.400 | 111,286
Open access AFA vessels | 2,652 | 0.304 | 1,841
Total inshore allocation | 870,941 | 100 | 604,800
¹ Under § 679.62(e)(1) the individual catch history for each vessel is equal to the vessel's best 2 of 3 years inshore pollock landings from 1995 through 1997 and includes landings to catcher/processors for vessels that made 500 or more mt of landings to catcher/processors from 1995 through 1997.
² Reserved.

Increase the Contribution of Arrowtooth Flounder CDQ to the CDQ Non-specific Reserve

Regulations at § 679.31(f) establish the CDQ non-specific reserve, comprised of 15 percent of the CDQ reserves of arrowtooth flounder and “other species” (skates, sharks, sculpin, and octopus). These species are taken incidentally in the CDQ fisheries. A CDQ group may request that NMFS transfer amounts in the CDQ non-specific reserve back into either its arrowtooth flounder or “other species” CDQ categories to reduce the possibility that the catch of these species would limit overall CDQ catch. Species or species groups that comprise the CDQ non-specific reserve are low-valued species for which no target fishery currently exists. These species have an adequate buffer between the TAC and the overfishing limit (OFL).

During the 2001 harvest specification process for the BSAI fisheries, the Bering Sea pollock TAC was set at 1,400,000 mt, based on increases to the 2001 pollock ABC and OFL. This is a 23-percent increase over the 2000 pollock TAC of 1,139,000 mt. The total BSAI TAC for all groundfish must be maintained within a required optimum yield range of 1.4 million to 2.0 million mt. In order to stay within the 2.0 million mt limit, the Council chose to decrease the arrowtooth flounder TAC to approximately 20 percent of the arrowtooth flounder ABC. This meant that the amount of the arrowtooth flounder CDQ reserve and the subsequent contribution of this amount to the CDQ non-specified reserve was proportionately decreased for 2001.

During the first 3 years of the groundfish CDQ fisheries, the non-specific reserve contained sufficient amounts of quota to support the bycatch needs in the “other species” CDQ category. Arrowtooth flounder was the largest contributor to the non-specific reserve in 1999 and 2000, the first complete years of groundfish CDQ fishing. For these years, the arrowtooth flounder TAC was set at or close to the acceptable biological catch (ABC) level. However, in 2001, the arrowtooth flounder TAC was set significantly less than the arrowtooth flounder ABC.

At the April 2001 Council meeting, CDQ representatives testified about their concern that vessels fishing for the groups were going to catch the “other species” CDQ allocation before they fully harvested target species such as pollock, Pacific cod, sablefish, and Greenland turbot. One of the primary reasons they cited for the shortfall in “other species” CDQ was the reduction in the 2001 arrowtooth flounder TAC. The concern about the effect of reducing the arrowtooth flounder TAC on the CDQ fishery was not recognized at the time the Council recommended the 2001 TACs in December 2000. NMFS regulations limit the amount of “other species” CDQ available to each CDQ group and prohibit the groups from exceeding their allocations.

In response to the groups' testimony, the Council asked staff to prepare an analysis of alternatives to address whether the catch of target species in the CDQ fisheries are constrained by the “other species” CDQ allocation and options to address this issue. Initial review of this analysis is scheduled for the October 2001 meeting and final action at the December 2001 meeting. The Council also stated that the CDQ non-specific reserve was “intended, in part, to provide adequate ‘other species’ quota to allow reasonable CDQ fisheries.” At its June 2001 meeting, the Council requested that NMFS adjust the contribution of arrowtooth flounder CDQ to the CDQ non-specific reserve from 15 percent to 50 percent via emergency rulemaking.

In response to the Council's request, NMFS is amending the CDQ non-specific reserve to increase the contribution of arrowtooth flounder to the CDQ non-specific reserve from 15 percent of the arrowtooth flounder CDQ reserve to 50 percent of the arrowtooth flounder CDQ reserve for the remainder of 2001. This increase will allow the CDQ groups to transfer quota from the CDQ non-specific reserve to the “other species” CDQ account to reduce the possibility that the incidental catch of “other species” would prevent the CDQ groups from fully harvesting their target species allocations.

The maximum amount of “other species” available for harvest in the combined CDQ and non-CDQ fisheries is the aggregate amount of the following components: The open access ITAC (22,525 mt), the CDQ reserve (1,988 mt), and the current amount of arrowtooth flounder in the CDQ non-specific reserve that could be released to the “other species” category (248 mt). The sum of these components is 24,761 mt. If 50 percent (826 mt) of the arrowtooth flounder CDQ reserve is moved to the non-specific CDQ reserve and subsequently released to the “other species” CDQ category, the revised total amount of “other species” available for harvest in the combined open access and CDQ fisheries would increase to 25,339 mt. This is 578 mt more than the currently available total “other species” amount of 24,761 mt. However, the increase in the amount of “other species” CDQ available for harvest through transfers from the CDQ non-specific reserve is still less than the combined CDQ and non-CDQ fisheries 2001 “other species” TAC of 26,500 mt and will not likely result in the total catch of “other species” exceeding the 2001 “other species” TAC. NMFS has determined that the TAC, ABC and OFL controls associated with both the “other species” and arrowtooth flounder species categories are not compromised by this action.

Gulf of Alaska

Seasons for Pacific Cod TAC in the GOA

This emergency interim rule corrects the January 18, 2001, emergency interim rule preamble for the opening and closing date of the B season Pacific cod fishery by vessels using trawl gear in the Western and Central Regulatory Areas of the GOA. The reasons for changing the season dates is discussed in detail in Part I of this preamble and in the preamble to the amendment to the emergency interim rule published June 13, 2001 (66 FR 31845). Under amendments to § 679.23(d)(4)(ii)(B) in this emergency interim rule, directed fishing for Pacific cod in the B season in the Western and Central Regulatory Areas of the GOA by vessels using trawl gear opens at 1200 hours, A.l.t., September 1, 2001, and closes at 0001 hours, A.l.t., November 1, 2001. The B season for non-trawl vessels directed fishing for Pacific cod in the GOA is changed to 1200 hours A.l.t. September 1, 2001, through 2400 hours A.l.t. December 31, 2001, by amending § 679.23(d)(4)(i)(B).

Pacific Halibut PSC Seasonal Allocation Reapportionment

At its April 2001 meeting, the Council recommended changing the GOA Pacific cod B season to September 1, without recommending changes to the Pacific halibut PSC seasonal allowance. Pacific halibut PSC seasonal allowance was still available starting June 10. At the Council's June 2001, meeting, certain industry representatives expressed their concern that fishermen could start fishing for the other species in the “shallow water trawl fishery” and could catch substantial amounts of the Pacific halibut PSC seasonal limit, leaving insufficient amounts of this seasonal limit to support the September 1 Pacific cod fishery.

In response to industry concerns, at its June meeting, the Council recommended that NMFS close by emergency interim rule directed fishing for the shallow-water complex by vessels using trawl gear until July 1 and to reapportion what remained of the original 150 mt seasonal apportionment of the Pacific halibut trawl PSC to the September 1 through October 1 period instead of during the June 10 through July 1 period. Trawl gear bycatch of Pacific halibut in the GOA Pacific cod fishery is deducted from the Pacific halibut PSC seasonal allowance established for the shallow-water complex trawl fishery. Effective June 27, 2001 (66 FR 34852, July 2, 2001), NMFS prohibited directed fishing in the shallow-water complex fishery by vessels using trawl gear in the GOA, except for vessels fishing for pollock using pelagic trawl gear in those portions of the GOA open to directed fishing for pollock. This closure was intended to ensure that remainder of the original June 10 through July 1 halibut PSC allocation is available for reallocating to a September 1 through October 1 season. NMFS has determined that as of July 1, 2001, 100 mt remains of the original 150 mt apportionment of halibut PSC to trawl vessels targeting the shallow-water complex from the June 10 to July 1, 2001 period.

The text of this emergency interim rule incorporates the Council's recommendation to reapportion the remaining 100 mt of the 150 mt Pacific halibut PSC allocated June 10 through July 1 to a new September 1 through October 1 season to provide for the Pacific cod trawl fishery. Accordingly, Tables 24 and 25 of the 2001 harvest specifications (66 FR 7276, January 22, 2001, amended 66 FR 17087, March 29, 2001) are adjusted to read as follows:

Table 24.—Final 2001 Pacific Halibut PSC Limits, Allowances, and Apportionments
[The Pacific Halibut PSC Limit for Hook-and-Line Gear is Allocated to the Demersal Shelf Rockfish (DSR) Fishery and Fisheries Other Than DSR. The Hook-and-Line Sablefish Fishery is Exempt from Halibut PSC Limits.]
[Values are im mt]
Trawl gear: Dates | Trawl gear: Amount | Hook-and-line gear: Other than DSR | Hook-and-line gear: DSR: Dates | Hook-and-line gear: DSR: Amount | Hook-and-line gear: DSR: Dates | Hook-and-line gear: DSR: Amount
Jan 1-Apr 1 | 550 (28%) | Jan 1-May 17 | 205 (70%) | Jan 1-Dec 31 | 10 (100%)
Apr 1-Jul 1 | 450 (22%) | May 17-Aug 31 | Any rollover
Jul 1-Oct 1 | 700 (35%) | Aug 31-Dec 31 | 85 (30%)
Oct 1-Dec 31 | 300 (15%)
Total | 2,000 (100%) |  | 290 (100%) |  | 10 (100%)

Table 25.—Final 2001 Apportionment of Pacific Halibut PSC Trawl Limits Between the Trawl Gear Deep-water Species Complex and the Shallow-water Species Complex
[Values are in metric tons]
Season | Shallow-water | Deep-water | Total
Jan. 20-Apr. 1 | 450 | 100 | 550
Apr. 1-Jul. 1 | 150 | 300 | 450
Jul. 1-Sep. 1 | 200 | 400 | 600
Sep. 1-Oct. 1 | 100 | Any rollover | 100
Subtotal—Jan. 20-Oct. 1 | 900 | 800 | 1,700
Oct. 1-Dec. 31 |  |  | 300
Total |  |  | 2,000
Unused seasonal apportionments of halibut PSC limits specified for trawl gear will be added to the respective seasonal apportionment for the next season during a current fishing year. No apportionment between shallow-water and deep-water fishery complexes during the October 1 through December 31.

Non-exempt American Fisheries Act (AFA) Catcher Vessel Groundfish Harvest

Non-exempt AFA catcher vessel groundfish harvest in 2001 are shown in Table 27 to the preamble in the January 18, 2001, emergency interim rule. In this emergency interim rule, NMFS is correcting several numerical errors that appeared in the preamble in Table 27 in the January 18, 2001, emergency interim rule and is publishing in this preamble the amended Table 27. In column 3, Ratio of 1995-1997 non-exempt AFA CV catch to 1995-1997 TAC, the pollock annual ratio in the Southeast Outside District is corrected from 0.3542, to read 0.3642, the Pacific cod ratio in the Western GOA for the offshore component during the A and B seasons is corrected from 0.1206, to read 0.1026, and the Pacific ocean perch ratio in the Eastern GOA is corrected from 0.0255, to read 0.0225. In column 5, 2001 non-exempt AFA catcher vessel sideboard (amounts in mt), the amount for trawl sablefish in the Central and Eastern GOA is corrected from 44 and 7, to read 42 and 6, respectively, and the amount for “other rockfish” in the Central GOA is corrected from 3 to 30 mt. These corrected amounts are presented in Table 27 listing the final 2001 GOA groundfish harvest limitations (sideboards).

Table 27.—Final 2001 GOA Non-Exempt AFA Catcher Vessel (CV) Groundfish Harvest Limitations (Sideboards)
[Values are in mt]
Species | Apportionments and allocations by area/season/processor/gear | Ratio of 1995-1997 Non-Exempt AFA CV catch to 1995-1997 TAC | 2001 TAC | 2001 Non-Exempt AFA catcher vessel sideboard
Pollock | A Season (W/C areas only) |  |  |
| January 20-March 1 |  |  |
| Shelikof Strait | 0.1672 | 12,431 | 2,075
| Shumagin (610) | 0.6238 | 7,707 | 4,808
| Chirik of (620) (outside Shelikof) | 0.1262 | 560 | 71
| Kodiak (630) (outside Shelikof) | 0.1984 | 5,474 | 1,086
| B Season (W/C areas only): |  | 6,206 | 1,038
| March 15-May 31 | 0.1672 | 3,854 | 2,404
| Shelikof Strait | 0.6238 |  |
| Shumagin (610) |  | 280 | 35
| Chirikof (620) (outside Shelikof) | 0.1262 | 2,737 | 543
| Kodiak (630) (outside Shelikof) | 0.1984 |  |
| C Season (W/C areas only) |  | 10,998 | 6,861
Pacific code | A Season (W/C areas January 1-June 10 |  | 6,546 | 826
| W inshore | 0.1310 | 9,882 | 1,295
| offshore | 0.1026 | 1,098 | 113
| C inshore | 0.0542 | 16,335 | 885
| offshore | 0.0721 | 1,815 | 131
| B Season (W/C areas only) Sept. 1-December 31 (non-trawl); Sept. 1-Nov. 1 (trawl) |  |  |
| W inshore | 0.1310 | 6,588 | 863
| C inshore | 0.1026 | 732 | 75
| offshore | 0.0721 | 1,210 | 87
| Annual |  |  |
| E inshore | 0.000 | 3,206 | 0
| offshore | 0.0078 | 356 | 3
Flatfish deep-water | W | 0.0000 | 280 | 0
| C | 0.0620 | 2,710 | 168
| E | 0.0021 | 2,310 | 5
Rex sole | W | 0.0043 | 1,230 | 5
| C | 0.0117 | 5,660 | 66
| E | 0.0026 | 2,550 | 7
Flathead sole | W | 0.0129 | 2,000 | 26
| C | 0.0097 | 5,000 | 49
| E | 0.0008 | 2,060 | 2
Flatfish shallow-water | W | 0.0260 | 4,500 | 117
| C | 0.0420 | 12,950 | 544
| E | 0.0106 | 1,950 | 21
Arrow-tooth flounder | W | 0.0047 | 8,000 | 38
| C | 0.0206 | 25,000 | 515
| E | 0.0016 | 5,000 | 8
Sable-fish | W trawl gear | 0.0023 | 402 | 1
| C trawl gear | 0.0384 | 1,082 | 42
| E trawl gear | 0.0236 | 271 | 6
Pacific ocean perch | W | 0.0051 | 1,280 | 7
| C | 0.0692 | 9,610 | 655
| E | 0.0225 | 2,620 | 59
Short-raker/rougheye | W | 0.0000 | 210 | 0
| C | 0.0145 | 930 | 13
| E | 0.0105 | 590 | 6
Other rockfish | W | 0.0000 | 20 | 0
| C | 0.0410 | 740 | 30
| E | 0.0000 | 250 | 0
Northern rockfish | W | 0.0005 | 600 | 0
| C | 0.0307 | 4,280 | 131
Pelagic shelf rockfish | W | 0.0004 | 550 | 0
| C | 0.0000 | 4,480 | 0
| E | 0.0066 | 1,350 | 9
Thorny-head rockfish | W | 0.0118 | 420 | 5
| C | 0.0118 | 970 | 11
| E | 0.0118 | 920 | 11
Deferral shelf rockfish | SEO | 0.0000 | 330 | 0
Atka mackerel | Gulfwide | 0.0443 | 600 | 27
Other species | Gulfwide | 0.0067 | 13,619 | 91

Response to Comments

NMFS received one letter of comment in response to the January 18, 2001, emergency interim rule (66 FR 7672). The letter indicated concern over the economic impact of the Steller sea lion protection measures on the freezer longliners fishing for Pacific cod in the BSAI and expressed support for NMFS working with the Council in the development of Steller sea lion protection measures for 2002.

Comment 1. The Comprehensive Biological Opinion provides little data regarding the decline of the Steller sea lions and the relationship to the Pacific cod fisheries. The Comprehensive Biological Opinion refers to the hook-and-line method of fishing as conducive to minimizing adverse effects on Steller sea lions. In spite of this determination, the 2001 protection measures will be economically harmful to the freezer longliner fishery and will impose disproportionate and adverse impacts on this sector with the implementation of closure areas in 2001.

Response. The Comprehensive Biological Opinion contained the best available information at the time the document was prepared on: (1) The importance of Pacific cod to the diet of Steller sea lions; and (2) the competition between fish and Steller sea lions for prey. NMFS has acknowledged that the harvest rates for the Pacific cod hook-and-line sector as reported in the Comprehensive Biological Opinion were higher than actual rates and that future consultations will use the corrected information.

The Steller sea lion protection measures phased-in for 2001 impose some, but not all, of the protection measures specified in the RPA to the Comprehensive Biological Opinion to reduce impacts on industry and coastal communities while maintaining consistency with the goals of the Comprehensive Biological Opinion. As a result, potential impacts in 2001 on the fishing industry and coastal communities have been reduced from what they would have been if the RPA had been fully implemented. Further, the freezer longliner fishery for BSAI Pacific cod typically is spatially distributed over a wide geographic area so that closure of some critical habitat during the second half of 2001 should not impose undue hardship.

For 2002, NMFS has reinitiated consultation on the effects of the pollock, Pacific cod, and Atka mackerel fisheries on the threatened and endangered populations of the Steller sea lions. The consultation will include accurate harvest rates for the Pacific cod hook-and-line fishery and other fisheries. Based on the best scientific and commercial data available, and with input from the Council and the RPA Committee, NMFS will reconsider the potential impact of the hook-and-line gear fisheries on the Steller sea lions and their critical habitat. Based on this consultation, NMFS will implement 2002 protection measures. However, until that consultation is complete, NMFS must take a cautious approach and implement the measures contained in this emergency interim rule extension and amendments for the second half of 2001.

Comment 2. Closing portions of the Aleutian Islands to freezer hook-and-line vessels will force these vessels into less productive fishing grounds already dominated by trawl and pot gear vessels. As a result, gear conflicts will increase.

Response. NMFS agrees that incidences of gear conflicts may increase if various gear sectors share fishing areas that have not been shared in the past as portions of critical habitat are closed to fishing. Some of these areas also may be less productive. Nonetheless, the critical habitat closures implemented for the Pacific cod fisheries during the second half of 2001 have been modified from those established in the Comprehensive Biological Opinion to better accommodate historical fishing practices while ensuring minimal thresholds established in the Comprehensive Biological Opinion for protection of critical habitat and Steller sea lion pups and non-pups are met.

Comment 3. Hook-and-line vessels will have higher halibut bycatch outside of closed areas, leading to earlier closure of the fishery.

Response. NMFS disagrees. A 2000 draft environmental assessment of the interaction between the Pacific cod fisheries in the BSAI and GOA and Steller sea lions ¹ determined that in 1999, the rate of Pacific halibut bycatch was similar inside and outside critical habitat. On June 10, 2001, NMFS prohibited directed fishing for Pacific cod by most vessels using hook-and-line gear (66 FR 31845, June 13, 2001) to allow the Pacific cod hook-and-line seasons to be delayed to August 15 in the BSAI and September 1 in the GOA with this emergency interim rule amendment. The delay in the season will help reduce the amount of halibut bycatch in the summer and will likely allow the Pacific cod hook-and-line fishery to have halibut bycatch allocations available for the fall fishery that would have otherwise been taken in the summer.

¹ Draft Environmental Assessment: Interactions Between the Pacific Cod Fisheries in the Bering Sea, Aleutian Islands, and the Gulf of Alaska and Steller Sea Lions. August 23, 2000. Available from NMFS Alaska Region (See ADDRESSES).

Comment 4. If the hook-and-line fleet cannot harvest a large portion of the TAC in the early part of the year, the potential exists that part of the annual TAC will not be harvested and the CDQ portion of the TAC may not be harvested, which is important to Native communities.

Response. The 2001 Steller sea lion protection measures authorized up to 60 percent of the non CDQ TAC to be harvested early in the year and no limitation was placed on the amount of Pacific cod CDQ that could be harvested early in the year. These provisions, as well as the delay of the second season start date from June 10 to September 1, are intended to increase the opportunity to harvest the Pacific cod CDQ reserve and reduce the potential of premature closure of the non CDQ hook-and-line gear Pacific cod fishery due to halibut bycatch restrictions.

Comment 5. The Pacific cod freezer hook-and-line fishery will experience a disproportionate and adverse impact with the implementation of the 40 percent A season and 60 percent B season TAC allocation in 2002.

Response. The 2002 seasonal apportionments of TAC have not been established at this time and comments on the 2002 protection measures are outside the scope of the subject action that implement protection measures for the second half of 2001. NMFS is working with the Council to develop Steller sea lion protection measures, including TAC seasonal allocations for 2002. The impact of Pacific cod TAC allocations will be analyzed in the supplemental environmental impact statement and regulatory impact review being prepared for 2002 Steller sea lion protection measures. This analysis will be considered by the Council and NMFS before 2002 protection measures are implemented.

Comment 6. Freezer hook-and-line vessels do not create “holes in the prey field”.

Response. See response to Comment 1. NMFS acknowledges that the hook-and-line fishery generally removes fish at rates slower than trawl gear. Nonetheless, removal rates by hook-and-line gear are not inconsequential and will be reassessed in the SEIS and biological opinion being prepared for proposed Steller sea lion protection measures in 2002 and beyond.

Comment 7. Freezer hook-and-line vessels are affected by near shore closures.

Response. NMFS agrees and acknowledges that all groundfish fisheries are affected by the 3 nm groundfish fishing closures around rookeries and haulouts. See also response to comment 1.

Comment 8. The freezer longliner sector is committed to pursuing conservation measures that are supported by sound science.

Response. NMFS commends this commitment.

NMFS received one letter of comment on the March 23, 2001, amendments (66 FR 17083, March 29, 2001) to the emergency interim rule exempting jig vessel off Alaska and vessels less than 60 ft (18.3 m) LOA using pot or hook-and-line gear in the BSAI from certain Steller sea lion protection measures. In general, the letter did not support the exemptions.

Comment 1. NMFS must rethink its entire RPA proposal from the Comprehensive Biological Opinion.

Response. NMFS has reinitiated consultation on the 2002 Steller sea lion protection measures under development by the Council and the proposed action will be analyzed to determine if it avoids jeopardy to Steller sea lions and adverse modification to their critical habitat. If the 2002 Steller sea lion protection measures are determined to not avoid jeopardy for Steller sea lions or result in adverse modification of their critical habitat, an RPA will be developed.

Comment 2. NMFS' action to exempt specified small non-trawl vessels from critical habitat closures within 3 nm of Steller sea lion haulouts in the BSAI will encourage the use of these areas and further erodes the protections afforded to the most vulnerable segments of the sea lion populations.

Response. NMFS agrees that near shore waters will be more accessible to small non-trawl gear vessels with the exemptions in the amendment to the emergency interim rule. NMFS believes that the important aspect of protection for these sites is maintaining prey availability for the Steller sea lions. As stated in the justification accompanying the amendment, the relatively small harvest of Pacific cod and Atka mackerel by the jig gear fleet and other small non-trawl vessels in the BSAI during the 2001 phase-in year of the RPA poses little concern to Steller sea lions or their critical habitat. In 2000, jig gear vessels in the BSAI harvested no Atka mackerel and only 77 mt of Pacific cod. For comparison, the BSAI 2001 ABC specifications for Atka mackerel and Pacific cod are 69,300 mt and 188,000 mt, respectively. In the GOA, jig gear vessels harvested 42 mt of Pacific cod during the Federal waters fishery. For comparison, the GOA 2001 ABC for Pacific cod is 67,800 mt. The amount of Pacific cod harvested in 2000 in the BSAI by vessels less than 60 ft (18.8 m) LOA using pot or hook-and-line gear was 501 mt, which, by comparison, amounts to only 0.3 percent of the 2001 Pacific cod ABC (188,000 mt). NMFS did not provide relief for small vessels using pot or hook-and-line gear in the GOA because the amount of Pacific cod harvested by these vessels approached 17 percent of the ABC.

Comment 3. Haulouts and rookeries are traditionally used by generations of sea lions making it important that disturbances in the immediate vicinity of these sites is minimized so that sea lions are not driven away. Oregon studies of rookeries and urchin fisheries show that sea lions were displaced during fishing activities. These disturbances with the small non-trawl gear vessel exemptions are also likely around haulouts.

Response. NMFS acknowledges that near shore activity around rookeries could disturb Steller sea lions and will maintain the 3 nm groundfish fishing closures around all rookeries. It is not known if Steller sea lions on haulouts have the same potential for disturbance from near shore fishing activity, as seen with Oregon sea lions on rookeries and the urchin fishery. NMFS will be reconsidering this issue in the biological opinion being prepared for the 2002 protection measures.

Comment 4. Young-of-the-year Steller sea lions may be in near shore waters around haulouts while their mothers are foraging, and fishing activities may have an adverse effect on these animals.

Response. NMFS agrees that small fishing vessels within 3 nm may interact with Steller sea lions. The specific effect on young-of-the-year animals is not known. However, NMFS determined that the relatively small number of vessels and harvest levels resulting from the exemption likely would not pose irreversible harm to Steller sea lions or their critical habitat during the 2001 phase-in year of the RPA.

Comment 5. Near shore habitat (3 nm or less) around rookeries and haulouts should remain off-limits to all fishing.

Response. See response to comment 3.

Classification

The Administrator, Alaska Region, NMFS (Regional Administrator), has determined that this emergency interim rule is necessary for the conservation and management of the groundfish fisheries of the BSAI and GOA. The Regional Administrator also has determined that this emergency interim rule is consistent with the Magnuson-Stevens Act and other applicable laws.

This action has been determined to be significant for purposes of Executive Order 12866 and a regulatory impact review was prepared. Consistent with the National Environmental Policy Act, an environmental assessment was prepared for this action. This rule contains no reporting, recordkeeping, or compliance requirements, and no relevant Federal rules exist that may duplicate, overlap, or conflict with this action.

This amended emergency interim rule is consistent with the objectives for Steller sea lion protection measures implemented in 2001 under section 209(c)(6) of Pub. L. No. 106-554, the ESA, and other applicable law. This action also will minimize bycatch rates of salmon and Pacific halibut in the pollock and Pacific cod fisheries while providing for continued temporal and spatial distribution of the pollock and Pacific cod fisheries. As such, the opportunity for harvest of pollock and Pacific cod will be optimized under prohibited species catch restrictions and the desire to avoid high bycatch rates of chum salmon in the Bering Sea and GOA groundfish fisheries. The extension and amendments to the emergency interim rule must be in place by July 18, 2001, to allow the continued management of the 2001 groundfish fisheries with Steller sea lion protection measures. Thus, this action must be implemented as soon as practical and in a manner that makes it impracticable to provide prior notice and an opportunity for public comment. Therefore, good cause exists to waive those requirements pursuant to 5 U.S.C. 553(b)(3). For the same reason, good cause exists to waive the 30-day delay in effective date. Accordingly, under 5 U.S.C. 553(d)(3), a delay in the effective date is hereby waived. Because prior notice and opportunity for public comment are not required for this emergency interim rule by 5 U.S.C. 553 or any other law, the analytical requirements of the Regulatory Flexibility Act, 5 U.S.C. 601 et seq. are not applicable. Therefore, no regulatory flexibility analysis has been prepared.

List of Subjects in 50 CFR Part 679

Alaska, Fisheries, Recordkeeping and reporting requirements.

Dated: July 12, 2001.
John Oliver,
Acting Assistant Administrator for Fisheries, National Marine Fisheries Service.

PART 679—FISHERIES OF THE EXCLUSIVE ECONOMIC ZONE OFF ALASKA

1. The effective date period for the amendments to the following sections, published January 22, 2001, at 66 FR 7276, is extended through December 31, 2001:

Sections

679.2

679.5(f)(4)

679.7(a)(17)

679.7(j)

679.20(a)(5)(i)(B)(1) and (a)(5)(ii)(C)

679.20(c)(2)(iii)

679.22(a)(12)(iii)(B), (C), and (D)

679.23(d)(3)

679.23(e)(4)(iv) and (e)(4)(v)

679.23(e)(5) and (e)(6)(ii)

679.23 (i)

2. The suspension date period for the amendments to the following sections, published January 22, 2001, at 66 FR 7276, is extended through December 31, 2001:

Sections

679.7(a)(11) and (b)

679.20(a)(5)(i)(A) and (a)(5)(ii)(B)

679.20(c)(2)(ii)

679.22(a)(7) and (a)(8)

679.22(b)(2)

679.23(d)(2)

679.23(e)(2) and (e)(4)(iii)

2a. The suspension date period for § 679.23(e)(6)(i), published March 29, 2001, at 66 FR 17087, is extended through December 31, 2001.

3. The authority citation for part 679 continues to read as follows:

Authority: 16 U.S.C. 773 et seq.; 1801 et seq.; 3631 et seq.; Title II of Division C, Pub. L. 10-277; Sec. 3027, Pub. L. 106-31; 113 Stat. 57; 16 U.S.C. 1540(f); and Sec. 209, Pub. L. 106-554.

4. In § 679.20, paragraph (a)(7)(i)(C)(2) is suspended and paragraphs (a)(5)(i)(C), (a)(7)(i)(C)(4), and (c)(7) are added to read as follows:

§ 679.20 General limitations.

(a) * * *

(5) * * *

(i) * * *

(C) AFA allocations (applicable through December 31, 2001). The pollock TAC apportioned to each BSAI subarea or district, after subtraction of the 10 percent CDQ reserve under § 679.31(a), will be allocated as follows:

(1) Incidental catch allowance. The Regional Administrator will establish an incidental catch allowance to account for projected incidental catch of pollock by vessels engaged in directed fishing for groundfish other than pollock and by vessels harvesting non-pollock CDQ. If during a fishing year the Regional Administrator determines that the incidental catch allowance has been set too high or too low, the Regional Administrator may issue inseason notification in the Federal Register that reallocates pollock to or from the directed pollock fisheries to or from the incidental catch allowance according to the proportions established under § 679.20(a)(5)(i)(C)(2).

(2) Directed fishing allocations. The remaining pollock TAC apportioned to each BSAI subarea or district will be allocated for directed fishing as follows:

(i) 50 percent to vessels harvesting pollock for processing by AFA inshore processors,

(ii) 40 percent to vessels harvesting pollock for processing by catcher/processors, with not less than 8.5 percent of this allocation made available for harvest by AFA catcher vessels and not more than 0.5 percent of this allocation made available for harvest by restricted AFA catcher/processors, and

(iii) 10 percent to vessels harvesting pollock for processing by AFA motherships.

(3) Allocations for fishing by inshore cooperatives and vessels not participating in cooperatives. The TAC allocated to vessels harvesting pollock for processing by AFA inshore processors will be divided into separate allocations for cooperatives and vessels not participating in cooperatives. The TAC allocation for cooperative fishing will be equal to the aggregate annual allocations of all inshore cooperatives that receive pollock allocations under § 679.61(e). The TAC allocation for fishing for vessels not participating in cooperatives will be equal to the allocation made to vessels harvesting pollock for processing by AFA inshore processors minus the TAC allocation for cooperative fishing.

(4) Excessive harvesting share. NMFS will establish an excessive harvesting share limit equal to 17.5 percent of the sum of the allocations made under § 679.20(a)(5)(i)(C)(2). The excessive share limit will be published in the proposed, interim, and final specifications.

* * * * *

(7) * * *

(i) * * *

(C) * * *

(4) (Applicable through December 31, 2001). Harvest of Pacific cod made by catcher vessels less than 60 ft (18.3 m) LOA using pot gear:

(i) Will accrue against the 18.3 percent specified in paragraph (a)(7)(i)(C)(1)(iii) of this section when the Pacific cod fishery for vessels equal to or greater than 60 ft (18.3 m) LOA using pot gear is open.

(ii) Will accrue against the 1.4 percent specified in paragraph (a)(7)(i)(C)(1)(iv) of this section when the Pacific cod fishery for vessels equal to or greater than 60 ft (18.3 m) LOA using pot gear is closed.

* * * * *

(c) * * *

(7) BSAI and Western and Central GOA Pacific cod season allocations (applicable through December 31, 2001). (i) The annual TAC of Pacific cod in the BSAI and the Western and Central GOA will be divided, after the subtraction of any reserves and incidental catch between the A Season and B Season as provided in §§ 679.23(d)(4) and (e)(6).

(ii) Each season apportionment will be allocated among the various sectors as provided in §§ 679.20(a)(6)(iii) and (a)(7).

(iii) Any overage or underage of Pacific cod harvest from the A season may be subtracted from or added to the subsequent B season.

* * * * *

5. In § 679.22, paragraph (a)(5)(i) is suspended and paragraphs (a)(5)(iv), (a)(11), (a)(12)(i), (a)(12)(ii), (a)(12)(iii)(A), (a)(12)(iv) through (viii), (a)(13), (b)(3), (b)(6), and (b)(7) are added to read as follows:

§ 679.22 Closures.

* * * * *

(a) * * *

(5) * * *

(iv) AFA catcher/processor restrictions (applicable through December 31, 2001). A catcher/processor or vessel authorized to fish for BSAI pollock under § 679.4(l)(2) is prohibited from conducting directed fishing for pollock in the CVOA during the C/D pollock season defined at § 679.23(e)(5)(i)(B).

* * * * *

(11) Steller sea lion protection measures—Bering Sea subarea and Bogoslof Foraging Area (applicable through December 31, 2001)—(i) Bogoslof Foraging Area—(A) Boundaries. The Bogoslof Foraging area consists of all waters of Area 518 as described in Figure 1 of this part south of a straight line connecting 55°00′ N/170°00′ W, and 55°00′ N/168°11′4.75″ W;

(B) Fishing prohibition. All waters within the Bogoslof Foraging area are closed to directed fishing for pollock, Pacific cod, and Atka mackerel.

(ii) Directed fishing for groundfish by federally permitted vessels is prohibited within 3 nm of selected sites. These sites are listed on Table 21 of this part and are identifiable by “Bering Sea” in column 2.

(iii) Directed fishing for Pacific cod is prohibited within the Pacific cod no fishing zones around selected sites. These sites are listed in Table 23 of this part and are identifiable by “Bering Sea” in column 2 and either “20” or “10” in column 7.

(iv) Directed fishing for pollock is prohibited within pollock no fishing zones around selected sites. These sites are listed in Table 22 of this part and are identifiable by “Bering Sea” in column 2 and either “20” or “10” in column 7.

(v) Directed fishing for Atka mackerel is prohibited within Atka mackerel no fishing zones around selected sites. These sites are listed in Table 24 of this part and are identifiable by “Bering Sea” in column 2 and either “20” or “10” in column 7.

(12) Steller sea lion protection measures—Aleutian Islands Subarea (applicable through December 31, 2001)—(i) Pollock closure. Directed fishing for pollock within the Aleutian Islands subarea is prohibited at all times.

(ii) Seguam foraging area. (A) The Seguam foraging area is established as all waters within the area between 52° N lat. and 53° N lat. and between 173°30′ W long. and 172°30′ W.

(B) Directed fishing for Pacific cod and Atka mackerel is prohibited in the Seguam Foraging area as described in paragraph (a)(12)(ii)(A) of this section.

(iii) Western and Central Aleutian Islands closures. (A) General. Trawling is prohibited within 20 nm of selected rookery and haulout sites in the Aleutian Islands subarea when the Regional Administrator announces by notification in the Federal Register that the criteria for a trawl closure in a district set out in paragraph (a)(12)(iii)(B) of this section have been met. These sites are listed in Table 21 of this part and are identifiable by “Aleutian Islands” in column 2 and by coordinates west of 177° W long. and east of 177° E long. for the Central area (542), and west of 177° E long. for the Western area (543) in column 4. Rat Island/Krysi Point and Amchitka Island/Cape Ivakin are excluded from the trawling prohibition described in this paragraph.

* * * * *

(iv) Directed fishing for groundfish by federally permitted vessels is prohibited within 3 nm of selected sites. These sites are listed in Table 21 of this part and are identifiable by “Aleutian Islands” in column 2.

(v) Directed fishing for Pacific cod by all gear types is prohibited within the Pacific cod no fishing zones around selected sites. These sites are listed in Table 23 of this part and are identifiable by “Aleutian Islands” in column 2 and either “20” or “10” in column 7.

(vi) Directed fishing for Pacific cod by trawl gear is prohibited within the trawl Pacific cod no fishing zones around selected sites. These sites are listed in Table 23 of this part and are identifiable by “Aleutian Islands” in column 2 and “20” in column 8.

(vii) Directed fishing for Pacific cod by non-trawl gear is prohibited within the non-trawl gear Pacific cod no fishing zones around selected sites. These sites are listed in Table 23 of this part and are identifiable by “Aleutian Islands” in column 2 and “3” in column 9.

(viii) Directed fishing for Atka mackerel is prohibited within Atka mackerel no fishing zones around selected sites. These sites are listed in Table 24 of this part and are identifiable by “Aleutian Islands” in column 2 and either “20” or “10” in column 7.

(13) Fishing Prohibition Exemptions (applicable through December 31, 2001). The following vessels are exempt from fishing prohibitions described in this section.

(i) For federally permitted vessels directed fishing for groundfish:

(A) All jig vessels are exempt from 3 nm closures around selected sites. These sites are listed in Table 21 and identifiable by a “Bering Sea” or “Aleutian Islands” in column 2 and “Y” in column 10.

(B) All vessels less than 60 ft (18.3 m) LOA using non-trawl gear are exempt from the 3 nm fishing closure around selected sites. These sites are listed in Table 21 and identifiable by a “Bering Sea” or “Aleutian Islands” in column 2 and a “Y” in column 9.

(ii) For vessels directed fishing for Atka mackerel:

(A) All vessels using jig gear and vessels less than 60 ft (18.3 m) LOA using non-trawl gear are exempt from the fishing prohibitions of paragraphs (a)(11)(i)(B) and (a)(12)(ii)(B) of this section and from Atka mackerel no fishing zones for all sites listed in Table 24 of this part.

(B) All pot vessels are exempt from the Atka mackerel no fishing zones for selected sites. These sites are listed in Table 24 of this part and identifiable by a “Bering Sea” in column 2 and a “Y” in column 8.

(iii) For vessels directed fishing for Pacific cod:

(A) All vessels using jig gear are exempt from the fishing prohibitions of paragraphs (a)(11)(i)(B) and (a)(12)(ii)(B) of this section and from Pacific cod no fishing zones for selected sites. These sites are listed in Table 23 of this part and identifiable by a “Bering Sea” or “Aleutian Islands” in column 2.

(B) All vessels less than 60 ft (18.3 m) LOA using non-trawl gear are exempt from the fishing prohibitions of paragraphs (a)(11)(i)(B) and (a)(12)(ii)(B) of this section and from Pacific cod no fishing zones for selected sites. These sites are listed in Table 23 of this part and identifiable by a “Bering Sea” or “Aleutian Islands” in column 2.

(C) All pot vessels are exempt from Pacific cod no fishing zones for selected sites. These sites are listed in Table 23 of this part and identifiable by a “Bering Sea” in column 2 and a “Y” in column 11.

(iv) All vessels less than 60 ft (18.3 m) LOA using non-trawl gear in directed fishing for pollock are exempt from the fishing prohibitions of paragraphs (a)(11)(i)(B) and (a)(12)(ii)(B) of this section and from pollock no fishing zones for selected sites. These sites are listed in Table 22 of this part and identifiable by a “Bering Sea” in column 2 and a “Y” in column 8.

* * * * *

(b) * * *

(3) Steller sea lion protection measures (applicable through December 31, 2001)—(i) Shelikof Strait Conservation Area—(A) Boundaries. The Shelikof Strait conservation area consists of the area bound by straight lines and shoreline connecting the following coordinates in the following order:

58°51′ N lat. 153°15′ W long.

58°51′ N lat. 152°00′ W long.

and the intersection of the 152°00′ W long. with Afognak Island; aligned counterclockwise around the shoreline of Afognak, Kodiak, and Raspberry Islands to:

57°00′ N lat. 154°00′ W long.

56°30′ N lat. 154°00′ W long.

56°30′ N lat. 155°00′ W long.

56°00′ N lat. 155°00′ W long.

56°00′ N lat. 157°00′ W long.

and the intersection of 157°00′ W long. with the Alaska Peninsula.

(B) Directed fishing for pollock, Pacific cod, and Atka mackerel is prohibited in all waters of the Shelikof Strait conservation area that lie east of Kodiak Island to the east of 154° W long.

(ii) Directed fishing for groundfish by federally permitted vessels is prohibited within 3 nm of selected sites. These sites are listed in Table 21 of this part and are identifiable by “Gulf of Alaska” in column 2.

(iii) Directed fishing for Pacific cod is prohibited within Pacific cod no fishing zones around selected sites. These sites are listed in Table 23 of this part and are identifiable by “Gulf of Alaska” in column 2 and either “20” or “10” in column 7.

(iv) Directed fishing for pollock is prohibited within pollock no fishing zones around selected sites. These sites are listed in Table 22 of this part and are identifiable by “Gulf of Alaska” in column 2 and either “20” or “10” in column 7.

* * * * *

(6) Chiniak Gully Research Area (applicable through December 31, 2001)—(i) Description of Chiniak Gully Research Area. The Chiniak Gully Research Area is defined as that part of statistical Area 630 bounded by straight lines connecting the coordinates in the order listed:

57.81° N lat., 152.37° W long.;

57.81° N lat., 151.85° W long.;

57.22° N lat., 150.64° W long.;

56.98° N lat., 151.27° W long.;

57.62° N lat., 152.16° W long.; and hence counterclockwise along the shoreline of Kodiak Island to 57.81° N lat., 152.37° W long.

(ii) Closure. (A) The Chiniak Gully Research Area is closed to vessels using trawl gear from August 1 to a date no later than September 20, except that trawl gear may be tested in the manner described at § 679.24(d)(2) in the Kodiak Test Area defined at § 679.24(d)(4)(i) and illustrated in Figure 7 to this part.

(B) Prior to September 20, the Regional Administrator may publish notification in the Federal Register rescinding the trawl closure in the Chiniak Gully Research Area described in paragraph (b)(6)(ii)(A) of this section.

(7) Fishing Prohibition Exemptions (applicable through December 31, 2001). The following vessels are exempt from fishing prohibitions described in this section.

(i) All jig vessels directed fishing for groundfish are exempt from 3 nm closures around selected sites. These sites are listed in Table 21 of this part and identifiable by a “Gulf of Alaska” in column 2 and a “Y” in column 10.

(ii) For vessels directed fishing for Pacific cod:

(A) All vessels using jig gear are exempt from the fishing prohibitions of paragraph (b)(3)(i)(B) of this section and from Pacific cod no fishing zones for selected sites. These sites are listed in Table 23 of this part and identifiable by a “Gulf of Alaska” in column 2.

(B) All vessels less than 60 ft (18.3 m) LOA using non-trawl gear are exempt from the fishing prohibitions of paragraph (b)(3)(i)(B) of this section and from Pacific cod no fishing zones for selected sites. These sites are listed in Table 23 of this part and identifiable by a “Gulf of Alaska” in column 2 and a “Y” in column 10.

(iii) All vessels less than 60 ft (18.3 m) LOA using non-trawl gear in directed fishing for pollock are exempt from the fishing prohibitions of paragraph (b)(3)(i)(B) of this section and from pollock no fishing zones for selected sites. These sites are listed in Table 22 of this part and identifiable by a “Gulf of Alaska” in column 2 and a “Y” in column 8.

* * * * *

6. In § 679.23, paragraphs (d)(4) and (e)(6)(iii) are added to read as follows:

§ 679.23 Seasons.

(d) * * *

(4) Directed fishing for Pacific cod (applicable through December 31, 2001)—(i) Non-trawl gear. Subject to other provisions of this part, directed fishing for Pacific cod with non-trawl gear in the Western and Central Regulatory Areas is authorized only during the following two seasons:

(A) A season. From 0001 hours, A.l.t., January 1, through 1200 hours, A.l.t., June 10; and

(B) B season. From 1200 hours, A.l.t., September 1, through 2400 hours A.l.t., December 31.

(ii) Trawl gear. Subject to other provisions of this part, directed fishing for Pacific cod with trawl gear in the Western and Central Regulatory Areas is authorized only during the following two seasons:

(A) A season. From 1200 hours, A.l.t., January 20, through 1200 hours, A.l.t., June 10; and

(B) B season. From 1200 hours, A.l.t., September 1, through 0001 hours A.l.t., November 1.

* * * * *

(e) * * *

(6) * * *

(iii) Non-trawl gear (applicable through December 31, 2001). Except for vessels using jig gear and for vessels less than 60 ft (18.3 m) LOA using pot and hook-and-line gear, subject to other provisions of this part, directed fishing for Pacific cod with non-trawl gear in the BSAI is authorized only during the following two seasons:

(A) A season. From 0001 hours A.l.t., January 1, through 1200 hours A.l.t., June 10; and

(B) B season. (1) For vessels equal to or greater than 60 ft (18.3 m) LOA using hook-and-line gear, from 1200 hours A.l.t., August 15, through 2400 hours A.l.t., December 31.

(2) For vessels equal to or greater than 60 ft (18.3 m) LOA using pot gear, from 1200 hours A.l.t., September 1, through 2400 hours A.l.t., December 31.

* * * * *

7. In § 679.31, paragraph (f) is suspended and paragraph (g) is added to read as follows:

§ 679.31 CDQ reserves.

* * * * *

(g) Non-specific CDQ reserve (applicable through December 31, 2001). Annually, NMFS will apportion 50 percent of the arrowtooth flounder CDQ and 15 percent of the “other species” CDQ for each CDQ group to a non-specific CDQ reserve. A CDQ group's non-specific CDQ reserve must be for the exclusive use of that CDQ group. A release from the non-specific reserve to the CDQ group's arrowtooth flounder or “other species” CDQ is a technical amendment to a community development plan as described in § 679.30(g)(5). The technical amendment must be approved before harvests relying on CDQ transferred from the non-specific CDQ reserve may be conducted.

8. Tables 21, 22, 23, and 24 to part 679 are added to read as follows:

BILLING CODE 3510-22-P

[FR Doc. 01-17850 Filed 7-16-01; 8:45 am]

BILLING CODE 3510-22-C